DEPARTMENT OF COMMERCE

International Trade Administration

(A-533-809)

Certain Forged Stainless Steel Flanges from India: Notice of Final Results of New Shipper Review

AGENCY: Import Administration, International Trade Administration, Department of Commerce.

SUMMARY: On January 31, 2007, the Department of Commerce (the Department) published the preliminary results of new shipper review of the antidumping duty order on certain forged stainless steel flanges from India. See Certain Forged Stainless Steel Flanges From India; Preliminary Results of New Shipper Review, 72 FR 4483 (January 31, 2007) (Preliminary Results). This new shipper review covers Kunj Forgings, Pvt., Ltd. (Kunj), a manufacturer and exporter of the subject merchandise. The period of review is February 1, 2005, through January 31, 2006.

We did not receive any comments from parties, and we have not made any changes to our analysis. The final weighted-average dumping margin for Kunj is thus unchanged from our preliminary results of review, and is shown in the section entitled “Final Results of Review.”

EFFECTIVE DATE: April 13, 2007.

FOR FURTHER INFORMATION CONTACT: Fred Baker or Robert James, AD/CVD Operations, Office 7, Import Administration, International Trade Administration, U.S. Department of Commerce, 14th Street & Constitution Avenue, NW., Washington, DC 20230; telephone: (202) 482-2924 or (202) 482-0649, respectively.

SUPPLEMENTARY INFORMATION:

Background

On January 31, 2007, the Department published in the Federal Register its preliminary results of new shipper review of forged stainless steel flanges from India for the period February 1, 2005, through January 31, 2006. See Preliminary Results. No party commented on the preliminary results.

Scope of the Antidumping Duty Order

The products covered by this order are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule of the United States (HTSUS). Although the HTSUS subheading is provided for convenience and customs purposes, the written description of the merchandise under review is dispositive of whether or not the merchandise is covered by the scope of the order.

Changes Since the Preliminary Results

As noted above, no parties commented on the preliminary results. The Department is making no changes to its preliminary analysis.

Final Results of Review

As a result of our review, we determine that a weighted-average dumping margin of 1.52 percent exists for Kunj for the period February 1, 2005, through January 31, 2006.

Assessment Rates

The Department will determine, and U.S. Customs and Border Protection (CBP) shall assess, antidumping duties on all appropriate entries, pursuant to section 751(a)(1)(B) of the Tariff Act of 1930 (the Act), and 19 CFR 351.212(b). The Department calculated importer-specific duty assessment rates (or, when the importer was unknown by the respondent, customer-specific duty assessment rates) on the basis of the ratio of the total amount of antidumping duties calculated for the examined sales observations involving each importer (or customer, when appropriate) to the total entered value of the examined sales observations for that importer (or customer, when appropriate). We intend to issue assessment instructions to CBP 15 days after the date of publication of these final results of review.

The Department clarified its “automatic assessment” regulation on May 6, 2003. This clarification will apply to entries of subject merchandise during the POR produced by companies included in these final results of review for which the reviewed companies did not know the merchandise was destined for the United States. In such instances, we will instruct CBP to liquidate unreviewed entries at the all-others rate if there is no rate for an intermediate company(ies) involved in the transaction. For a discussion of this clarification, see Notice of Policy Concerning Assessment of Antidumping Duties, 68 FR 23954 (May 6, 2003).

Cash Deposit Requirements

The following deposit requirements will be effective upon publication of this notice of final results of new shipper review for all shipments of subject merchandise entered, or withdrawn from warehouse, for consumption on or after the publication, as provided by section 751(a)(1) of the Tariff Act: (1) the cash deposit rates for Kunj (i.e., the subject merchandise both manufactured and exported by Kunj) will be 1.52 percent; (2) the cash deposit rate for exporters who received a rate in a prior segment of the proceeding will continue to be the rate assigned in that segment of the proceeding; (3) the cash deposit rate for entries of subject merchandise exported by Kunj but not manufactured by Kunj will continue to be the “All Others” rate (i.e., 162.14 percent) or the rate applicable to the manufacturer, if so established; and (4) if neither the exporter nor the manufacturer is a firm covered in this review, or a prior segment of the proceeding, the cash deposit rate will be 162.14 percent, the “all others” rate established in the less-than-fair-value investigation. See Amended Final Determination and Antidumping Duty Order; Certain Forged Stainless Steel Flanges from India; 59 FR 5994 (February 9, 1994). These cash deposit requirements shall remain in effect until publication of the final results of the next administrative review. There are no changes to the rates applicable to any other companies under this antidumping duty order.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i) of the Act.

Dated: April 9, 2007.
David M. Spooner,
Assistant Secretary for Import Administration.

[FR Doc. E7-7082 Filed 4-12-07; 8:45 am]

BILLING CODE 3510-DS-S